COMMODITY FUTURES TRADING COMMISSION

Citrus Associates of the New York Cotton Exchange Proposed FCOJ-A Futures and Options Contract and FCOJ-B Contract

AGENCY: Commodity Futures Trading Commission.

ACTION: Notice of availability of terms and conditions of new contract specifications for FCOJ-A futures and options contracts and FCOJ-B futures contract.

SUMMARY: The Citrus Associates of the New York Cotton Exchange (CANYCE or Exchange) has requested that the Commission approve the subject proposed new FCOJ-A futures and options contracts and FCOJ-B futures contract. The proposals were submitted pursuant to Commission Regulations 40.3 and 40.5.

The delivery provisions of the proposed FCOJ-A futures contract are the same as the existing FCOJ-2 futures contract, and the delivery provisions of the proposed FCOJ-B futures contract are the same as the existing FCOJ-1 futures contract. The FCOJ-A contract will trade outright, as the principal trading vehicle, and the FCOJ-B contract will trade as a differential to the FCOJ-A contract (currently, the FCOJ-1 contract trades outright and the FCOJ-2 contract trades as a differential to the FCOJ-1 contract).

Both the FCOJ-A and FCOJ-B futures contracts will require delivery of 15,000 pounds of US Grade A orange solids with a Brix value of not less than 62.5 degrees, and a Brix to acid value ration of not less than 14 to 1 nor more than 19 to 1. Deliverable product must also have a minimum score of 94, with the minimums for the component factors fixed at 37 for color, 37 for flavor and 19 for defects. In addition, both the FCOJ-A and FCOJ-B futures contracts will require delivery in drums or tanks, at the seller's option, at Exchange-licensed warehouses in Florida, New Jersey, Delaware, or California. The principal difference between the two contracts is that the FCOJ-A futures contract, which, as noted, will be the principal trading vehicle, will require delivery of product that is 100% Florida origin, 100% Brazilian origin, or a combination of the two origins, whereas the FCOJ-B contract, which, as noted, will trade as a differential to FCOJ-A, will not have a country or state of origin requirement.

The Director of the Division of Market Oversight (Division) of the Commission, acting pursuant to the authority delegated by Commission Regulation 140.96, has determined that publication of the Exchange's proposal for comment is in the public interest, and will assist the Commission in considering the views of interested persons.

DATES: Comments must be received on or before December 11, 2003.

ADDRESSES: Interested persons should submit their views and comments to Jean A. Webb, Secretary, Commodity Futures Trading Commission, Three Lafayette, Centre, 1155 21st Street, NW., Washington 20581 by the specified date. In addition, comments may be sent by facsimile transmission to (202) 418-5521 or by electronic mail to secretary@cftc.gov. Reference should be made to FCOJ-A and FCOJ-B futures and options contract and FCOJ-B futures contract.

FOR FURTHER INFORMATION CONTACT: Please contact Martin Murray of the Division of Market Oversight, Commodity Futures Trading Commission, Three Lafayette Centre, 1155 21st Street, NW., Washington 20581, (202) 418-5276. Facsimsile number: (202) 418-5507. Electronic mail: mmurray@cftc.gov.

SUPPLEMENTARY INFORMATION: Copies of the Exchange's proposal will be available for inspection at the Office of the Secretariat, Three Lafayette Centre, 1155 21st Street, NW., Washington 20581. Copies of the proposal can also be obtained through the Commission's Web site at http://www.cftc.gov/dea/pending/deanewcontr.htm, or through the Office of the Secretariat by mail at the above mailing address or by phone at (202) 418-5100.

Other materials submitted by the CANYCE in support of the request for approval may be available upon request pursuant to the Freedom of Information Act (5 U.S.C. 552) and the Commission's regulations thereunder (17 CFR part 145 (2002)), except to the extent they are entitled to confidential treatment as set forth in 17 CFR 145.5 and 145.9. Requests for copies of such materials should be made to the FOI, Privacy and Sunshine Act Compliance Staff of the Office of the Secretariat at the Commission's headquarters in accordance with 17 CFR 145.7 and 145.8 at the above address.

Issued in Washington, DC on November 20, 2003.
Michael Gorham,
Director.

[FR Doc. 03-29498 Filed 11-25-03; 8:45 am]

BILLING CODE 8351-01-M